DEPARTMENT OF TRANSPORTATION

Federal Aviation Administration

Termination of the Preparation of an Air Tour Management Plan and Environmental Assessment for Petrified Forest National Park, Arizona

AGENCY: Federal Aviation Administration.

ACTION: Notice of Termination of the Preparation of Air Tour Management Plan and Environmental Assessment.

SUMMARY: The Federal Aviation Administration (FAA), in cooperation with the National Park Service (NPS), announces that it will no longer prepare an Air Tour Management Plan (ATMP) and Environmental Assessment (EA) for commercial air tour operations over Petrified Forest National Park in Arizona. The FAA and NPS have stopped work on preparation of the ATMP and EA based upon a provision included in the FAA Modernization and Reform Act of 2012 (Pub. L. 112-141) that exempted parks with 50 or fewer annual commercial air tour operations from the provisions of the National Parks Air Tour Management Act of 2000 (NPATMA) (Pub. L. 106-181).

FOR FURTHER INFORMATION CONTACT: Keith Lusk, Program Manager, AWP-1SP, Federal Aviation Administration, Western-Pacific Region, P.O. Box 92007, Los Angeles, California 90009-2007. Telephone: (310) 725-3808.

SUPPLEMENTARY INFORMATION: In a July 1, 2010 Federal Register notice (75 FR 38169), the FAA in cooperation with the National Park Service (NPS) provided notice of their intent to develop an EA for the ATMP at Petrified Forest National Park, pursuant to the National Parks Air Tour Management Act of 2000 (Pub. L. 106-181) and its implementing regulations contained in 14 CFR Part 136, Subpart B, National Parks Air Tour Management. The ATMP process for Petrified Forest National Park was initiated based on receipt of applications for operating authority from two existing commercial air tour operators to conduct commercial air tour operations over this park unit. In accordance with NPATMA and based on the existing level of operations at the time of the application, the FAA issued interim operating authority (IOA) to the two existing commercial air tour operators to conduct an annual total of 46 commercial air tours over the park until such time as an ATMP was developed. The FAA and NPS began preparing an EA to comply with the National Environmental Policy Act (Pub. L. 91-190), which requires Federal agencies to consider the environmental impacts associated with a major federal action.

The FAA Modernization and Reform Act of 2012 (Pub. L. 112-95) amended various provisions of NPATMA. One provision exempted national park units with 50 or fewer annual commercial air tour operations from the requirements of NPATMA. The provision also allows the Director to withdraw the exemption if the Director determines that an air tour management plan or voluntary agreement is necessary to protect park resources and values or park visitor use and enjoyment. The provision requires FAA and NPS to jointly publish a list each year of national parks covered by the exemption. In addition, commercial air tour operators conducting commercial air tour operations over a national park that is exempt from the requirements of NPATMA, shall submit to the FAA and NPS a report each year that includes the number of commercial air tour operations the operator conducted during the preceding 1-year period over the park.

Since there are fewer than 50 annual commercial air tour operations being conducted over Petrified Forest National Park and NPS is not withdrawing the exemption, the park is exempt from NPATMA. Therefore, the FAA, in cooperation with the NPS, has stopped work and discontinued the preparation of the ATMP and EA for Petrified Forest National Park.

The list of units of the National Park System exempt from the provisions of NPATMA, which includes Petrified Forest National Park, was published in the Federal Register on December 19, 2012 (77 FR 75254).

Issued in Hawthorne, California on April 17, 2013.
Keith Lusk,
Program Manager, Special Programs Staff, Western-Pacific Region.

[FR Doc. 2013-09973 Filed 4-26-13; 8:45 am]

BILLING CODE 4910-13-P